DEPARTMENT OF THE INTERIOR

Fish and Wildlife Service

[FWS-R9-MB-2009-N140] [91200-1232-BPPR-P2]

Information Collection Sent to the Office of Management and Budget (OMB) for Approval; OMB Control Number 1018-0133; Control and Management of Resident Canada Geese

AGENCY: Fish and Wildlife Service, Interior.

ACTION: Notice; request for comments.

SUMMARY: We (Fish and Wildlife Service) have sent an Information Collection Request (ICR) to OMB for review and approval. The ICR, which is summarized below, describes the nature of the collection and the estimated burden and cost. OMB approval for this information collection is scheduled to expire on August 31, 2009. We may not conduct or sponsor and a person is not required to respond to a collection of information unless it displays a currently valid OMB control number. However, under OMB regulations, we may continue to conduct or sponsor this information collection while it is pending at OMB.

DATES: You must send comments on or before August 17, 2009.

ADDRESSES: Send your comments and suggestions on this information collection to the Desk Officer for the Department of the Interior at OMB-OIRA at (202) 395-5806 (fax) or OIRA_DOCKET@OMB.eop.gov (e-mail). Please provide a copy of your comments to Hope Grey, Information Collection Clearance Officer, Fish and Wildlife Service, MS 222-ARLSQ, 4401 North Fairfax Drive, Arlington, VA 22203 (mail) or hope_grey@fws.gov (e-mail).

FOR FURTHER INFORMATION CONTACT: To request additional information about this ICR, contact Hope Grey by mail or e-mail (see ADDRESSES) or by telephone at (703) 358-2482.

SUPPLEMENTARY INFORMATION:

OMB Control Number: 1018-0133.

Title: Control and Management of Resident Canada Geese, 50 CFR 20.21, 21.49, 21.50, 21.51, 21.52, and 21.61.

Service Form Number(s): None.

Type of Request: Extension of a currently approved collection.

Affected Public: State fish and wildlife agencies, tribes, and local governments; airports, landowners; and farms.

Respondent's Obligation: Required to obtain or retain a benefit.

Frequency of Collection: Annually.

Activity | Number of annual respondents | Number of annual responses | Completion time per response | Annual burden hours
21.49 - Airport Control Order - Annual Report | 110 | 110 | 1.5 hours | 166
21.50 - Nest and Egg Depredation Order - Registration and Report | 2,000 | 4,000 | .5 hours | 2,000
21.51 - Agricultural Depredation Order - Recordkeeping | 600 | 600 | .5 hours | 300
21.51 - Agricultural Depredation Order - Annual Report | 30 | 30 | 8 hours | 240
21.52 - Public Health Control Order - Annual Report | 35 | 35 | 1 hour | 35
21.61 - Population Control Approval Request - Recordkeeping and Annual Report | 30 | 30 | 24 hours | 720
21.61 - Population Control Approval Request - Population Estimates | 30 | 30 | 160 hours | 4,800
Totals | 2,835 | 4,835 |  | 8,261

Abstract: The Migratory Bird Treaty Act prohibits the take, possession, import, export, transport, sale, purchase, or bartering of migratory birds or their parts except as permitted under the terms of a valid permit or as permitted by regulations. In 2006, we issued regulations establishing two depredation orders and three control orders that allow State and tribal wildlife agencies, private landowners, and airports to conduct resident Canada goose population management, including the take of birds. We monitor the data collected for activities under these orders and may rescind an order if monitoring indicates that activities are inconsistent with conservation of Canada geese.

Control order for airports. 50 CFR 21.49 allows managers at commercial, public, and private airports and military airfields and their employees or agents to implement management of resident Canada geese to resolve or prevent threats to public safety. An airport must be part of the National Plan of Integrated Airport Systems and have received Federal grant-in-aid assistance or be a military airfield under the jurisdiction, custody, or control of the Secretary of a military department. Each facility exercising the privileges of the order must submit an annual report with the date, numbers, and locations of birds, nests, and eggs taken.

Depredation order for nests and eggs. 50 CFR 21.50 allows private landowners and managers of public lands to destroy resident Canada goose nests and eggs on property under their jurisdiction provided they register annually on our website at https://epermits.fws.gov/eRCGR. Registrants must provide basic information, such as name, address, phone number and email, and identify where the control work will occur and who will conduct it. Registrants must return to the website to report the number of nests with eggs they destroyed.

Depredation order for agricultural facilities. 50 CFR 21.51 allows States and tribes, via their wildlife agency, to implement a program to allow landowners, operators, and tenants actively engaged in commercial agriculture to conduct damage management control when geese are committing depredations or to resolve or prevent other injury to agricultural interests. State and tribal wildlife agencies in the Atlantic, Central, and Mississippi Flyway portions of 41 States can implement the provisions of the order. Agricultural producers must maintain a log of the date and number of birds taken under this authorization. States and tribes exercising the privileges of the order must submit an annual report of the numbers of birds, nests, and eggs taken and the county where take occurred.

Public health control order. 50 CFR 21.52 authorizes States and tribes of the lower 48 States to conduct (via the State or tribal wildlife agency) resident Canada goose control and management activities when the geese pose a direct threat to human health. States and tribes operating under this order must submit an annual report summarizing activities, including the numbers of birds taken and the county where take occurred.

Population control. 50 CFR 21.61 establishes a managed take program to reduce and stabilize resident Canada goose populations when traditional and otherwise authorized management measures are not successful or feasible. A State or tribal wildlife agency in the Atlantic, Mississippi, or Central Flyway may request approval for this population control program. If approved, the State or tribe may use hunters to harvest resident Canada geese during the month of August. Requests for approval must include a discussion of the State's or tribe's efforts to address its injurious situations using other methods or a discussion of the reasons why the methods are not feasible. If the Service Director approves a request, the State or tribe must (1) keep annual records of activities carried out under the authority of the program, and (2) provide an annual summary, including number of individuals participating in the program and the number of resident Canada geese shot. Additionally, participating States and tribes must monitor the spring breeding population by providing an annual estimate of the breeding population and distribution of resident Canada geese in their State.

Comments: On March 18, 2009, we published in the Federal Register (74 FR 11597) a notice of our intent to request that OMB renew this information collection. In that notice, we solicited comments for 60 days, ending on May 18, 2009. We received one comment in response to that notice. The commenter opposed the killing of geese, but did not address the information collection requirements. We did not make any changes to the collection requirements.

We again invite comments concerning this information collection on:

(1) Whether or not the collection of information is necessary, including whether or not the information will have practical utility;

(2) The accuracy of our estimate of the burden for this collection of information;

(3) Ways to enhance the quality, utility, and clarity of the information to be collected; and

(4) Ways to minimize the burden of the collection of information on respondents.

Comments that you submit in response to this notice are a matter of public record. Before including your address, phone number, e-mail address, or other personal identifying information in your comment, you should be aware that your entire comment, including your personal identifying information, may be made publicly available at any time. While you can ask OMB in your comment to withhold your personal identifying information from public review, we cannot guarantee that it will be done.

Dated: June 26, 2009
Hope Grey,
Information Collection Clearance Officer, Fish and Wildlife Service.

FR Doc. E9-17070 Filed 7-16-09; 8:45 am

BILLING CODE 4310-55-S